DEPARTMENT OF HOMELAND SECURITY

[Docket No. DHS-2016-0036]

Committee Name: Homeland Security Academic Advisory Council

AGENCY: Department of Homeland Security

ACTION: Committee management; request for applicants for appointment to the Homeland Security Academic Advisory Council.

SUMMARY: The Department of Homeland Security (DHS) is requesting qualified individuals who are interested in serving on the Homeland Security Academic Advisory Council (HSAAC) to apply for appointment as identified in this notice. Under the Secretary's authority in title 6, U.S.C., sec. 451, the Council is a discretionary committee established in accordance with and operates under the provisions of the Federal Advisory Committee Act (FACA) (title 5, U.S.C., appendix). The HSAAC is composed of up to twenty-three (23) members, representing a diverse group of university and college presidents and academic association leaders who advise the Secretary and senior leadership on matters related to homeland security and the academic community, including: Academic research and faculty exchange; campus resilience; cybersecurity; homeland security academic programs; international students; and student and recent graduate recruitment.

The Department seeks to appoint individuals to eight (8) vacant positions on the Council, including three (3) Representative members and five (5) Special Government Employee (SGE) members. If other positions are vacated during the application process, candidates may be selected from the pool of applicants to fill the vacated positions.

DATES: Applications will be accepted until 11:59 p.m. EST June 17, 2016.

ADDRESSES: The preferred method of submission is via email. However, applications may also be submitted by fax or mail. Please only submit by ONE of the following methods:

• Email: AcademicEngagement@hq.dhs.gov. Include the docket number in the subject line of the message.

• Fax: 202-447-3713.

• Mail: Academic Engagement; Office of Academic Engagement/Mailstop 0440; Department of Homeland Security; 245 Murray Lane SW; Washington, DC 20528-0440.

FOR FURTHER INFORMATION CONTACT: Lindsay Burton, Office of Academic Engagement/Mailstop 0440; Department of Homeland Security; 245 Murray Lane SW; Washington, DC 20528-0440, email: AcademicEngagement@hq.dhs.gov, telephone: 202-447-4686 and fax: 202-447-3713.

SUPPLEMENTARY INFORMATION: The HSAAC is an advisory committee established to provide advice and recommendations to the Secretary and senior leadership on matters relating to student and recent graduate recruitment; international students; academic research; campus and community resiliency, security and preparedness; faculty exchanges; and cybersecurity. The duties of the Council are solely advisory in nature.

The Department is requesting individuals who are interested in serving on the Council to apply for appointment. Individuals selected for appointment will serve as either a SGE or Representative member. Specific vacancies by membership type include the following:

• Representative Members: Three (3) vacancies for members representing the specific viewpoints of their respective academic institution or organization:

○ One (1) Representative from a women's college or university, or a representative organization of these institutions;

○ One (1) Representative from a DHS Center of Excellence; and

○ One (1) Representative from a college, university or academic association with countering violent extremism focused programs or research initiatives.

• SGEs/Non-representative Members: Five (5) vacancies for SGEs that will be selected based on their area of expertise as aligned to the HSAAC focus areas: Academic research and faculty exchange; campus resilience; cybersecurity; homeland security academic programs; international students; and student and recent graduate recruitment.

More information about member composition can be found in the HSAAC Charter: https://www.dhs.gov/publication/hsaac-charter-0.

If you are interested and qualified, please apply for consideration of appointment by submitting an application package to the Office of Academic Engagement (OAE) as listed in the ADDRESSES section of this notice. Current HSAAC members whose terms are ending should notify OAE of their interest in reappointment in lieu of submitting a new application, and if desired, provide updated application materials for consideration. There is no application form; however, each application package MUST include the following information:

• Cover letter, addressed to the Office of Academic Engagement, that indicates why you are interested in serving on the Council and includes the following information: The position (i.e., Representative or SGE) being applied for, current position title and organization, home and work addresses, a current telephone number and email address; and

• Resume or Curriculum Vitae (CV).

Incomplete applications will not be considered. Applicants that do not meet the following criteria will not be considered: (1) Represent an academic institution or organization, and (2) serve in the highest role in that organization (i.e., president, chancellor, Chief Executive Officer). Applicants will then be reviewed on the following criteria: (1) Relevance of experience to HSAAC focus areas; (2) institution or association represented; and (3) alignment to current HSAAC membership composition.

The appointment shall be for a term ranging from two (2) to four (4) years. Individuals selected for appointment as SGEs, defined in sec. 202(a) of title 18, U.S.C., will be required to complete a Confidential Financial Disclosure Form (Office of Government Ethics (OGE) Form 450). Individuals selected for appointment as Representative Members are selected to represent the viewpoint of their respective academic institution or organization and are not SGEs.

The HSAAC is expected to meet two (2) times each year. Additional meetings may be held with the approval of the Designated Federal Officer (DFO). Members may be reimbursed for travel and per diem, and all travel for HSAAC business must be approved in advance by the DFO. HSAAC meetings are open to the public, unless a determination is made by the appropriate DHS official in accordance with DHS policy and directives, that the meeting should be closed in accordance with title 5, U.S.C., subsec. (c) of sec. 552b. Additionally, members are asked to serve on any number of HSAAC Subcommittees, which meet at least once a year via teleconference.

DHS does not discriminate on the basis of race, color, religion, sex, national origin, political affiliation, sexual orientation, gender identity, marital status, disability and genetic information, age, membership in an employee organization, or other non-merit factor. DHS strives to achieve a widely diverse candidate pool for all of its recruitment actions. Current DHS employees, contractors and potential contractors will not be considered for membership. Federally registered lobbyists may apply for positions designated as Representative appointments but are not eligible for positions that are designated as SGE appointments.

Responsible DHS Official: Alaina Clark, AcademicEngagement@hq.dhs.gov, 202-447-4686.

Dated: June 1, 2016.
Alaina Clark,
Acting Designated Federal Officer, Homeland Security Academic Advisory Council.

[FR Doc. 2016-13286 Filed 6-3-16; 8:45 am]

BILLING CODE 9110-9B-P